FEDERAL RESERVE SYSTEM

Federal Open Market Committee; Domestic Policy Directive of June 26 and 27, 2001

In accordance with § 271.25 of its rules regarding availability of information (12 CFR part 271), there is set forth below the domestic policy directive issued by the Federal Open Market Committee at its meeting held on June 26 and 27, 2001.¹

¹ Copies of the Minutes of the Federal Open Market Committee meeting of June 26 and 27, 2001, which include the domestic policy directive issued at that meeting, are available upon request to the Board of Governors of the Federal Reserve System, Washington, D.C. 20551. The minutes are published in the Federal Reserve Bulletin and in the Board's annual report.

The Federal Open Market Committee seeks monetary and financial conditions that will foster price stability and promote sustainable growth in output. To further its long-run objectives, the Committee in the immediate future seeks conditions in reserve markets consistent with reducing the federal funds rate to an average of around 3-¾ percent.

By order of the Federal Open Market Committee, August 29, 2001.

Donald L. Kohn,
Secretary, Federal Open Market Committee.

[FR Doc. 01-22245 Field 9-4-01; 8:45 am]

BILLING CODE 6210-01-S